CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its new application for the Civil Society Nonprofit Scholars Program. Copies of the information collection request can be obtained by contacting the office listed below in the ADDRESSES section of this notice.

DATES: Written comments must be submitted to the office listed in the ADDRESSES section by March 24, 2003.

ADDRESSES: Send comments to: Corporation for National and Community Service, Attn. Robin Dean, Program Manager, Office of Research and Policy Development, Room 9112, 1201 New York Avenue, NW., Washington, DC 20525.

FOR FURTHER INFORMATION CONTACT: Robin Dean, (202) 606-5000, ext. 436, or at Rdean@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology, e.g., permitting electronic submissions of responses.

I. Background

On November 26, 2002, a new scholars program was launched by the Corporation and the Woodrow Wilson International Center for Scholars that will enhance our understanding of the connection between civil society, nonprofits, volunteerism and public policy.

The Corporation and the Center are developing the application for the 2004-2005 competition. The application for the 2003-2004 competition was not opened for public comment because fewer than ten applications are expected to be submitted. Under this program, up to three scholars or experienced practitioners will spend nine months conducting research on topics such as the relationship between democratic institutions and nonprofits, the role of service in society, and civic engagement and public policy. Participants in the program will reside in the Washington area during their research term, from September 2004 through May 2005, and will have access to research facilities at the Center, the Corporation, and through the Washington area. The application deadline will be on or around January 15, 2004.

II. Current Action

As part of the OMB-approval process, the Corporation seeks public comment on the proposed 2004-2005 application instructions and forms for this fellowship opportunity. The proposed application is the same as that found in the 2003-2004 competition, except for a change in the deadline date. The 2003-2004 application can be downloaded from the following two Internet addresses: www.nationalservice.org/scholars or www.wilsoncenter.org/scholars.

Type of Review: New information collection.

Agency: Corporation for National and Community Service.

Title: Civil Society Nonprofit Scholars Program.

OMB Number: None.

Agency Number: None.

Affected Public: Citizens of the United States and worldwide applicants.

Total Respondents: 100.

Frequency: Once a year.

Average Time Per Response: 10 hours.

Estimated Total Burden Hours: 1,000 hours.

Total Burden Cost (capital/startup): None.

Total Burden Cost (operating/maintenance): None.

Comments submitted in response to this notice will be summarized and/or included in the request for Office of Management and Budget approval of the information collection request; they will also become a matter of public record.

Dated: January 15, 2003.
David Reingold,
Director, Department of Research and Policy Development.

[FR Doc. 03-1323 Filed 1-21-03; 8:45 am]

BILLING CODE 6050-$$-P